DEPARTMENT OF TRANSPORTATION

Federal Highway Administration

Environmental Impact Statement: Lake, Cook and McHenry Counties, Illinois

AGENCY: Federal Highway Administration (FHWA), DOT.

ACTION: Notice of extension of the scoping comment period.

SUMMARY: The FHWA is allowing additional time for the public to submit scoping comments on an environmental impact statement (EIS) for a proposed transportation improvement project in Lake, Cook and McHenry Counties in Illinois. The project is referred to as the Tri-County Access Project. The end of the scoping comment period is extended from August 24, 2018 to October 1, 2018.

DATES: To ensure consideration in developing the draft EIS, comments must be received by the close of the scoping period on October 1, 2018.

FOR FURTHER INFORMATION CONTACT: Catherine A. Batey, Division Administrator, Federal Highway Administration, 3250 Executive Park Drive, Springfield, Illinois 62703, Phone: 217-492-4640. Paul Kovacs, Chief Engineer, Illinois Tollway, 2700 Ogden Avenue, Downers Grove, Illinois 60515, Phone 630-241-6800. Anthony Quigley, Deputy Director of Highways, Region 1 Engineer, Illinois Department of Transportation, 201 West Center Court, Schaumburg, Illinois 60196, Phone: 847-705-4401.

SUPPLEMENTARY INFORMATION: On July 16, 2018 (83 FR 32947), the FHWA published a notice of intent (NOI) to prepare an EIS for a proposed transportation improvement project in Lake County, northern portions of Cook County, and eastern portions of McHenry County. Locally, this project is referred to as the Tri-County Access Project. The close of the scoping comment period for the NOI published on July 16, 2018, was August 24, 2018. In response to requests for an extension of the comment period, we are extending the scoping comment period to October 1, 2018. All comments received between July 16, 2018 and October 1, 2018 will be considered.

The July 16, 2018 NOI listed the dates and times of the public scoping meetings and discussed the alternatives that will be considered. Improvements in the project area are proposed to reduce congestion, improve reliability of travel, improve travel options connecting major origins and destinations, and improve local and regional travel efficiency.

To ensure that the full range of issues related to this proposed action are addressed and all significant issues identified, comments and suggestions are invited from all interested parties. Scoping input on the proposed project may be submitted via the project website (tricountyaccess.org), via email at info@tricountyaccess.org, or in writing to the Illinois Tollway, 2700 Ogden Avenue, Downers Grove, Illinois 60515, attention Pete Foernssler. Scoping input on the proposed project also will be invited during a public informational meeting scheduled for September 6, 2018. All comments received through the scoping process will be part of the project record. Comments and questions concerning the proposed action and this notice should be directed to the Illinois Tollway at the address provided above by the close of business on October 1, 2018.

Authority: 23 U.S.C. 315; 23 CFR 771.123

(Catalog of Federal Domestic Assistance Program Number 20.205, Highway Planning and Construction. The regulations implementing Executive Order 12372 regarding intergovernmental consultation on Federal programs and activities apply to this program.)

Issued on: August 8, 2018.
Catherine A. Batey,
Division Administrator, Springfield, Illinois.

[FR Doc. 2018-17504 Filed 8-13-18; 8:45 am]

BILLING CODE 4910-22-P